DEPARTMENT OF LABOR

Occupational Safety and Health Administration

[Docket No. NRTL-1-89]

Intertek Testing Services, NA, Inc., Renewal of Recognition

AGENCY: Occupational Safety and Health Administration (OSHA), Labor.

ACTION: Notice.

SUMMARY: This notice announces the Agency's final decision on the applications of Intertek Testing Services, NA, Inc. (ITSNA), for renewal of its recognition as a Nationally Recognized Testing Laboratory under 29 CFR 1910.7.

EFFECTIVE DATE: This renewal becomes effective on May 29, 2001, and will be valid until May 29, 2006, unless terminated or modified prior to that date, in accordance with 29 CFR 1910.7.

FOR FURTHER INFORMATION CONTACT: Bernard Pasquet, Office of Technical Programs and Coordination Activities, NRTL Program, Occupational Safety and Health Administration, U.S. Department of Labor, 200 Constitution Avenue, NW., Room N3653, Washington, DC 20210, or phone (202) 693-2110.

SUPPLEMENTARY INFORMATION:

Notice of Final Decision

The Occupational Safety and Health Administration (OSHA) hereby gives notice of the renewal of recognition of Intertek Testing Services, NA, Inc. (ITSNA), as a Nationally Recognized Testing Laboratory (NRTL). ITSNA's renewal covers its existing scope of recognition, which may be found in OSHA's informational web page for the NRTL (http://www.osha-slc.gov/dts/otpca/nrtl/its.html). We maintain such a web page for each NRTL.

OSHA recognition of an NRTL signifies that the organization has met the legal requirements in § 1910.7 of Title 29, Code of Federal Regulations (29 CFR 1910.7). Recognition is an acknowledgment that the organization can perform independent safety testing and certification of the specific products covered within its scope of recognition and is not a delegation or grant of government authority. As a result of recognition, OSHA can accept products “properly certified” by the NRTL.

The Agency processes applications by an NRTL for initial recognition or for expansions or renewal of this recognition following requirements in Appendix A to 29 CFR 1910.7. This appendix requires that the Agency publish two notices in the Federal Register in processing an application. In the first notice, OSHA announces the application and provides its preliminary finding and, in the second notice, the Agency provides its final decision on an application. These notices set forth the NRTL's scope of recognition or modifications of this scope.

The renewal covered by this current notice applies only to the administrative, testing, and certification facilities that are part of the ITSNA organization and operations as an NRTL. No part of the recognition applies to any other part of ITSNA, or to any other legal entity, subsidiary, facility, operation, unit, division, or department of Intertek Testing Services Ltd. (ITSLtd), which encompasses ITSNA. The term “ITSNA” also represents the NRTL's predecessors, “ETL” and/or “InchcapeNA,” as appropriate.

When first recognized as an NRTL, the organization's name was ETL Testing Laboratories, Inc. (ETL). According to the preliminary Federal Register notice for the recognition (54 FR 8411, 2/28/89), ETL was part of Inchcape Inspection and Testing Services, U.S.A., Inc. (IITS), based in New York. IITS was in turn owned by Inchcape plc, based in the United Kingdom. As explained in the preliminary notice (referenced below), ITSNA is currently owned by Intertek Testing Services Ltd. (ITSLtd), which is also based in the United Kingdom.

In the Federal Register notice of the preliminary finding, we provided an abstract of name and other changes pertaining to the ITSNA recognition. However, for brevity, we do not repeat it in this current notice. You should refer to this preliminary notice (referenced above) if you are interested in reviewing this information.

OSHA published the required notice of its preliminary findings on the renewal in the Federal Register (see 63 FR 69676, 12/17/98). However, this notice also covered applications submitted by ITSNA for expansion of its recognition, which we have granted separately, as further explained below. The December 1998 notice included a preliminary finding that ITSNA could meet the requirements in 29 CFR 1910.7 for renewal and expansion of its recognition, subject to certain conditions, and invited public comment on the applications by February 16, 1999. OSHA received no comments concerning this notice.

Regarding the renewal, ITSNA, as ETL, received its recognition as an NRTL on September 13, 1989 (see 54 FR 37845), for a period of five years ending September 13, 1994. Appendix A to 29 CFR 1910.7 stipulates that the period of recognition of an NRTL is five years and that an NRTL may renew its recognition by applying not less than nine months, nor more than one year, before the expiration date of its current recognition. ETL requested renewal of its recognition on September 29, 1993 (see Exhibit 30A), within the time allotted, and ITSNA has retained its recognition pending OSHA's final decision in this renewal process.

OSHA had temporarily withheld its consideration of the renewal and the expansion requests pending resolution by the NRTL of discrepancies noted at its facilities during OSHA audits. Staff of the OSHA NRTL Program accepted resolution of the discrepancies in December 1996, permitting OSHA to resume processing all the requests it had received from ITSNA.

After publication of the December 1998 preliminary notice, the Agency delayed publication of the final notice for the renewal and expansion pending resolution of certain requests made by ITSNA. In April 2000, ITSNA submitted information pertinent to its requests that permitted OSHA to proceed with a final notice for the expansion applications (65 FR 71122, 11/29/00). However, the information required further review to render a decision on the renewal. The Agency has now completed this review and has determined that it can grant the renewal.

For purposes of processing the renewal and expansion requests, OSHA performed a number of on-site reviews (evaluation) of ITSNA facilities. ITSNA has addressed any discrepancies noted by the assessors following the review, and the assessors recommended renewal of ITSNA's recognition (see Exhibits 31A-31E).

The following is a chronology of the other Federal Register notices published by OSHA concerning ITSNA's recognition, all of which involved an expansion of recognition: A request announced on October 26, 1990 (55 FR 43229) and granted on December 18, 1990 (55 FR 51971; see correction, 56 FR 2953 1/25/91); a request announced on November 18, 1992 (57 FR 54422) and granted on July 13, 1993 (58 FR 37749; see correction, 58 FR 47001, 9/3/93); a request announced on August 9, 1996 (61 FR 41659) and granted on November 20, 1996 (61 FR 59111; see correction, 63 FR 1126, 1/8/98); and a request announced on August 8, 1997 (62 FR 42829) and granted on December 1, 1997 (62 FR 63562).

You may obtain or review copies of all public documents pertaining to the application by contacting the Docket Office, Occupational Safety and Health Administration, U.S. Department of Labor, 200 Constitution Avenue, NW, Room N2625, Washington, DC 20210. You should refer to Docket No. NRTL-1-89, the permanent record of public information on the ITSNA recognition.

The current addresses of the ITSNA testing facilities recognized by OSHA are:

ITSNA Atlanta, 1950 Evergreen Boulevard, Duluth, Georgia 30096

ITSNA Antioch (formerly Pittsburg), 2200 Wymore Way, Antioch, California 94509*

ITSNA Boxborough, 70 Codman Hill Road, Boxborough, Massachusetts 01719*

ITSNA Cortland, 3933 U.S. Route 11, Cortland, New York 13045

ITSNA Los Angeles, 27611 LaPaz Road, Suite C, Laguna Niguel, California 92677

ITSNA Madison, 8431 Murphy Drive, Middleton, Wisconsin 53562

ITSNA Minneapolis (Oakdale), 7435 Fourth Street North, Lake Elmo, Minnesota 55042

ITSNA San Francisco, 1365 Adams Court, Menlo Park, CA 94025

ITSNA Totowa, 40 Commerce Way, Unit B, Totowa, New Jersey 07512

ITSNA Vancouver, 211 Schoolhouse Street, Coquitlam, British Columbia, V3K 4X9 Canada

ITS Hong Kong NA, Limited, 2/F., Garment Centre, 576 Castle Peak Road, Kowloon, Hong Kong*

ITS Taiwan NA, Limited, 14/F Huei Fung Building, 27, Chung Shan North Road, Sec. 3, Taipei 10451, Taiwan*

* A different address or different name appeared in the notice of preliminary finding.

Programs and Procedures

The renewal of recognition includes ITSNA's continued use of the following supplemental programs, based upon the criteria detailed in the March 9, 1995 Federal Register notice (60 FR 12980, 3/9/95). This notice lists nine (9) programs and procedures (collectively, programs), eight of which an NRTL may use to control and audit, but not actually to generate, the data relied upon for product certification. An NRTL's initial recognition will always include the first or basic program, which requires that all product testing and evaluation be performed in-house by the NRTL that will certify the product. OSHA previously granted ITSNA recognition to use these programs, which are listed, as shown below, in OSHA's informational web page on the ITSNA recognition (http://www.osha-slc.gov/dts/otpca/nrtl/its.html).

Program 2: Acceptance of testing data from independent organizations, other than NRTLs.

Program 3: Acceptance of product evaluations from independent organizations, other than NRTLs.

Program 4: Acceptance of witnessed testing data.

Program 5: Acceptance of testing data from non-independent organizations.

Program 6: Acceptance of evaluation data from non-independent organizations (requiring NRTL review prior to marketing).

Program 8: Acceptance of product evaluations from organizations that function as part of the International Electrotechnical Commission Certification Body (IEC-CB) Scheme.

Program 9: Acceptance of services other than testing or evaluation performed by subcontractors or agents.

OSHA developed these programs to limit how an NRTL may perform certain aspects of its work and to permit the activities covered under a program only when the NRTL meets certain criteria. In this sense, they are special conditions that the Agency places on an NRTL's recognition. OSHA does not consider these programs in determining whether an NRTL meets the requirements for recognition under 29 CFR 1910.7. However, these programs help to define the scope of that recognition.

Additional Condition

This notice also contains a condition that OSHA currently requires ITSNA to meet in order to be recognized as an NRTL. This condition, listed first under Conditions below, applies in addition to the other conditions below that OSHA normally imposes in its recognition of an organization as an NRTL. As explained in the final notice for the expansion (65 FR 71122, 11/29/00) and in the preliminary notice (63 FR 69682, 12/17/98), ITSNA currently owns Compliance Design, a manufacturer of laboratory test equipment. If ITSNA were to certify the types of products manufactured or sold by Compliance Design or by an entity owned or controlled by ITSLtd, ITSNA's parent company, ITSNA would no longer meet the requirement in 29 CFR 1910.7 for complete independence. OSHA imposed the special condition on ITSNA's recognition to mitigate or eliminate situations that will cause it to fail to meet the independence requirement. If ITSNA or its owner were to develop material interests that might have an undue influence on ITSNA's NRTL operations, OSHA would need to reevaluate ITSNA's recognition. OSHA would then provide ITSNA with an opportunity to take corrective action. If ITSNA did not adequately resolve the problem, OSHA would begin the process to revoke its recognition as an NRTL.

Final Decision and Order

The NRTL Program staff has examined the applications, the assessor's reports, and other pertinent information. Based upon this examination and the assessor's recommendation, OSHA finds that Intertek Testing Services NA, Inc., has met the requirements of 29 CFR 1910.7 for renewal of its NRTL recognition. The renewal applies to the sites listed above. In addition, it covers the test standards listed below, and it is subject to the limitations and conditions, also listed below. Pursuant to the authority in 29 CFR 1910.7, OSHA hereby renews the recognition of ITSNA, subject to these limitations and conditions.

Limitations

Renewal of Recognition of Facilities

OSHA limits the renewal of recognition of ITSNA to the 12 sites listed above. In addition, similar to other NRTLs that operate multiple sites, the Agency's recognition of any ITSNA testing site is limited to performing testing to the test standards for which OSHA has recognized ITSNA, and for which the site has the proper capability and control programs. ITSNA uses only the “ETL” and “WHI” marks for its NRTL operations. Currently, only ITSNA's Cortland location issues the authorization to use the “ETL” certification mark or certifications. Similarly, only its Vancouver, Antioch (formerly Pittsburg), and Madison sites issues the authorization to use the “WHI” certification mark or certifications. OSHA must review and accept any other ITSNA site before that site authorizes use of either mark for ITSNA's NRTL operations.

Renewal of Recognition of Test Standards

OSHA further limits the renewal of recognition of ITSNA to testing and certification of products to demonstrate conformance to the test standards listed below (see Listing of Test Standards). OSHA has determined that each test standard meets the requirements for an appropriate test standard, within the meaning of 29 CFR 1910.7(c). Some of the test standards for which OSHA previously recognized ITSNA were no longer appropriate at the time of preparation of the preliminary notice, primarily because they had been withdrawn by the standards developing organization. As a result, we have excluded these test standards in the listing below. However, under OSHA policy, the NRTL may request recognition for comparable test standards, i.e., other appropriate test standards covering similar type of product testing. Since a number of NRTLs are affected by such withdrawn standards, OSHA will publish a separate notice to make the appropriate substitutions for ITSNA and other NRTLs that were recognized for these standards. The Agency has contacted these NRTLs regarding this matter.

This notice includes all of OSHA's current limitations on ITSNA with regard to the standards listed below. These limitations appear at the end of the list of standards, and standards to which a specific limitation applies are denoted by the use of asterisks. In addition, one limitation pertaining to hazardous location testing is set forth under “Other Limitations,” which follows the listing of test standards.

The Agency's recognition of ITSNA, or any other NRTL, for a particular test standard is always limited to equipment or materials (products) for which OSHA standards require third party testing and certification before use in the workplace. An NRTL's scope of recognition excludes any product(s) falling within the scope of the test standard for which OSHA has no such requirements.

Listing of Test Standards

ANSI A90.1 Safety Standard for Belt Manlifts

ANSI C37.013* AC High-Voltage Generator Circuit Breakers Rated on a Symmetrical Current

ANSI C37.13* Low Voltage AC Power Circuit Breakers Used in Enclosures

ANSI ANSI C37.14* Low Voltage DC Power Circuit Breakers Used in Enclosures

ANSI C37.17* Trip Devices for AC and General Purpose DC Low-Voltage Power Circuit Breakers

ANSI C37.18* Enclosed Field Discharge Circuit Breakers for Rotating Electric Machinery

ANSI C37.20.1* Metal-Enclosed Low Voltage Power Circuit Breaker Switchgear

ANSI C37.20.2* Metal-Clad and Station-Type Cubicle Switchgear

ANSI C37.20.3* Metal-Enclosed Interrupter Switchgear

ANSI C37.21 Control Switchboards

ANSI C37.29* Low-Voltage AC Power Circuit Protectors Used in Enclosures

ANSI C37.38* Gas-Insulated, Metal-Enclosed Disconnecting, Interrupter and Grounding Switches

ANSI C37.46* Power Fuses and Fuse Disconnecting Switches

ANSI C37.50* Low-Voltage AC Power Circuit Breakers Used in Enclosures—Test Procedures

ANSI C37.51* Metal-Enclosed Low-Voltage AC Power Circuit-Breaker Switchgear Assemblies—Conformance Test Procedures

ANSI C37.55* Metal-Clad Switchgear Assemblies—Conformance Test Procedures

ANSI C37.57* Metal-Enclosed Interrupter Switchgear Assemblies—Conformance Testing

ANSI C37.90* Relays and Relay Systems Associated with Electric Power Apparatus

ANSI C37.121* Unit Substations—Requirements

ANSI C57.12.00* Distribution, Power and Regulating Transformers—General Requirements

ANSI C57.13* Instrument Transformers—Requirements

ANSI C62.11* Metal-Oxide Surge Arresters for AC Power Circuits

ANSI/ISA S12.12** Electrical Equipment for Use in Class I, Division 2, Hazardous (Classified) Locations

ANSI K61.1 Storage and Handling of Anhydrous Ammonia (CGA G-2.1)

ANSI S82.02.01 Electrical and Electronic Test, Measuring, Control and Related Equipment: General Requirements

ANSI Z21.1 Household Cooking Gas Appliances

ANSI Z21.5.1 Gas Clothes Dryers—Volume I—Type 1 Clothes Dryers

ANSI Z21.5.2 Gas Clothes Dryers—Volume II—Type 2 Clothes Dryers

ANSI Z21.10.1 Gas Water Heaters—Volume I—Storage Water Heaters with Input Ratings of 75,000 Btu per Hour or less

ANSI Z21.10.3 Gas Water Heaters—Volume III—Storage, Circulating and Instantaneous Water Heaters with Input Ratings above 75,000 Btu per Hour or less

ANSI Z21.11.1 Gas-Fired Room Heaters—Volume I—Vented Room Heaters

ANSI Z21.11.2 Gas-Fired Room Heaters—Volume II—Unvented Room Heaters

ANSI Z21.12 Draft Hoods

ANSI Z21.13 Gas-Fired Low-Pressure Steam and Hot Water Heating Boilers

ANSI Z21.15 Manually Operated Gas Valves

ANSI Z21.17 Domestic Gas Conversion Burners

ANSI Z21.18 Gas Appliance Pressure Regulators

ANSI Z21.20 Automatic Gas Ignition Systems and Components

ANSI Z21.21 Automatic Valves for Gas Appliances

ANSI Z21.23 Gas Appliance Thermostats

ANSI Z21.24 Metal Connectors for Gas Appliances

ANSI Z21.35 Gas Filters on Appliances

ANSI Z21.40.1 Gas-Fired Absorption Summer Air Conditioning Appliances

ANSI Z21.47 Gas-Fired Central Furnaces

ANSI Z21.48 Gas-Fired Gravity and Fan Type Floor Furnaces

ANSI Z21.49 Gas-Type Gravity and Fan Type Vented Wall Furnaces

ANSI Z21.50 Vented Decorative Gas Appliances

ANSI Z21.57 Recreational Vehicle Cooking Gas Appliances

ANSI Z21.56 Gas-Fired Pool Heaters

ANSI Z21.58 Outdoor Cooking Gas Appliances

ANSI Z21.60 Decorative Gas Appliances for Installation in Solid-Fuel Burning Fireplaces

ANSI Z21.72 Portable Camp Cook Stoves for Use With Propane Gas

ANSI Z83.4 Direct Gas-Fired Make-Up Air Heaters

ANSI Z83.6 Gas-Fired Infrared Heaters

ANSI Z83.7 Gas-Fired Construction Heater

ANSI Z83.8 Gas Unit Heaters

ANSI Z83.11 Gas Food Service Equipment—Ranges and Unit Broilers

ANSI Z83.18 Direct Gas-Fired Industrial Air Heaters

UL 1 Flexible Metal Conduit

UL 3 Flexible Nonmetallic Tubing for Electric Wiring

UL 4 Armored Cable

UL 5 Surface Metal Electrical Raceways and Fittings

UL 5A Nonmetallic Surface Raceways and Fittings

UL 6 Rigid Metal Conduit

UL 8 Foam Fire Extinguishers

UL 9 Fire Tests of Window Assemblies

UL 10B Fire Tests of Door Assemblies

UL 10C Positive Pressure Fire Tests of Door Assemblies

UL 13 Power-Limited Circuit Cables

UL 17 Vent or Chimney Connector Dampers for Oil-Fired Appliances

UL 20 General-Use Snap Switches

UL 21 P-Gas Hose

UL 22 Amusement and Gaming Machines

UL 25 Meters for Flammable and Combustible Liquids and LP Gas

UL 44 Rubber-Insulated Wires and Cables

UL 45 Portable Electric Tools

UL 48 Electric Signs

UL 50 Electrical Cabinets and Boxes

UL 62 Flexible Cord and Fixture Wire

UL 65 Electric Wired Cabinets

UL 67 Electric Panelboards

UL 69 Electric-Fence Controllers

UL 73 Electric Motor-Operated Appliances

UL 79 Power-Operated Pumps for Petroleum Product Dispensing Systems

UL 82 Electric Gardening Appliances

UL 83 Thermoplastic-Insulated Wires and Cables

UL 87 Power-Operated Dispensing Devices for Petroleum Products

UL 94 Tests for Flammability of Plastic Materials for Parts in Devices and Appliances

UL 96 Lightning Protection Components

UL 98 Enclosed and Dead-Front Switches

UL 104 Elevator Door Locking Devices and Contacts

UL 122 Photographic Equipment

UL 123 Oxy-Fuel Gas Torches

UL 130 Electric Heating Pads

UL 136 Pressure Cookers

UL 141 Garment Finishing Appliances

UL 150 Antenna Rotators

UL 153 Portable Electric Lamps

UL 154 Carbon-Dioxide Fire Extinguisher

UL 174 Household Electric Storage—Tank Water Heaters

UL 180 Liquid-Level Indicating Gauges and Tank-Filling Signals for Petroleum Products

UL 181 Factory Made Air Ducts and Connectors

UL 183 Manufactured Wiring Systems

UL 187 X-Ray Equipment

UL 197 Commercial Electric Cooking Appliances

UL 198B Class H Fuses

UL 198D High-Interrupting Capacity Class K Fuses

UL 198E Class R Fuses

UL 198F Plug Fuses

UL 198G Fuses for Supplementary Overcurrent Protection

UL 198H Class T Fuses

UL 198L DC Fuses for Industrial Uses

UL 198M Mine-Duty Fuses

UL 201 Standard for Garage Equipment

UL 207 Refrigerant Containing Components and Accessories, Nonelectrical

UL 209 Cellular Metal Floor Raceways and Fittings

UL 217 Single and Multiple Station Smoke Detectors

UL 218 Fire Pump Controllers

UL 224 Extruded insulating Tubing

UL 228 Door Closers-Holders, With or Without Integral Smoke Detectors

UL 231 Electrical Power Outlets

UL 234 Low Voltage Lighting Fixtures for Use in Recreational Vehicles

UL 244A Solid-State Controls for Appliances

UL 248-1 Low-Voltage Fuses—Part 1: General Requirements

UL 248-2 Low-Voltage Fuses—Part 2: Class C Fuses

UL 248-3 Low-Voltage Fuses—Part 3: Class CA and CB Fuses

UL 248-4 Low-Voltage Fuses—Part 4: Class CC Fuses

UL 248-5 Low-Voltage Fuses—Part 5: Class G Fuses

UL 248-6 Low-Voltage Fuses—Part 6: Class H Non-Renewable Fuses

UL 248-7 Low-Voltage Fuses—Part 7: Class H Renewable Fuses

UL 248-8 Low-Voltage Fuses—Part 8: Class J Fuses

UL 248-9 Low-Voltage Fuses—Part 9: Class K Fuses

UL 248-10 Low-Voltage Fuses—Part 10: Class L Fuses

UL 248-11 Low-Voltage Fuses—Part 11: Plug Fuses

UL 248-12 Low-Voltage Fuses—Part 12: Class R Fuses

UL 248-13 Low-Voltage Fuses—Part 13: Semiconductor Fuses

UL 248-14 Low-Voltage Fuses—Part 14: Supplemental Fuses

UL 248-15 Low-Voltage Fuses—Part 15: Class T Fuses

UL 248-16 Low-Voltage Fuses—Part 16: Test Limiters

ANSI/NEMA 250 Enclosures for Electrical Equipment

UL 250 Household Refrigerators and Freezers

UL 252A Compressed Gas Regulator Accessories

UL 291 Automated Teller Systems

UL 294 Access Control System Units

UL 296 Oil Burners

UL 296A Waste Oil-Burning Air-Heating Appliances

UL 298 Portable Electric Hand Lamps

UL 299 Dry Chemical Fire Extinguisher

UL 300 Fire Testing of Fire Extinguishing Systems for Protection of Restaurant Cooking Areas

UL 307A Liquid Fuel-Burning Heating Appliances for Manufactured Homes and Recreational Vehicles

UL 307B Gas Burning Heating Appliances for Manufactured Homes and Recreational Vehicles

UL 310 Electrical Quick-Connect Terminals

UL 325 Door, Drapery, Gate, Louver, and Window Operators and Systems

UL 330 Hose and Hose Assemblies for Dispensing Gasoline

UL 343 Pumps for Oil-Burning Appliances

UL 347 High-Voltage Industrial Control Equipment

UL 353 Limit Controls

UL 355 Cord Reels

UL 360 Liquid-Tight Flexible Steel Conduit

UL 363 Knife Switches

UL 365 Police Station Connected Burglar Alarm Units and Systems

UL 372 Primary Safety Controls for Gas- and Oil-Fired Appliances

UL 378 Draft Equipment

UL 391 Solid-Fuel and Combination-Fuel Control and Supplementary Furnaces

UL 399 Drinking-Water Coolers

UL 407 Manifolds for Compressed Gases

UL 412 Refrigeration Unit Coolers

UL 414 Meter Sockets

UL 416 Refrigerated Medical Equipment

UL 427 Refrigerating Units

UL 429 Electrically Operated Valves

UL 430 Electric Waste Disposers

UL 443 Steel Auxiliary Tanks for Oil-Burner Fuel

UL 444 Communications Cables

UL 448 Pumps for Fire-Protection Service

UL 464 Audible Signal Appliances

UL 466 Electric Scales

UL 467 Electrical Grounding and Bonding Equipment

UL 469 Musical Instruments and Accessories

UL 471 Commercial Refrigerators and Freezers

UL 474 Dehumidifiers

UL 482 Portable Sun/Heat Lamps

UL 484 Room Air Conditioners

UL 486A Wire Connectors and Soldering Lugs for Use With Copper Conductors

UL 486B Wire Connectors for Use with Aluminum and/or Copper Conductors

UL 486C Splicing Wire Connectors

UL 486E Equipment Wiring Terminals for Use with Aluminum and/or Cooper Conductors

UL 489 Molded-Case Circuit Breakers and Circuit-Breaker Enclosures

UL 493 Thermoplastic-Insulated Underground Feeder and Branch-Circuit Cables

UL 496 Edison Base Lampholders

UL 497 Protectors for Paired Conductor Communications Circuits

UL 497A Secondary Protectors for Communication Circuits

UL 497B Protectors for Data Communication and Fire Alarm Circuits

UL 498 Electrical Attachment Plugs and Receptacles

UL 499 Electric Heating Appliances

UL 506 Specialty Transformers

UL 507 Electric Fans

UL 508 Electric Industrial Control Equipment

UL 508C Power Conversion Equipment

UL 510 Insulating Tape

UL 512 Fuseholders

UL 514A Metallic Outlet Boxes, Electrical

UL 514B Fittings for Conduit and Outlet Boxes

UL 514C Nonmetallic Outlet Boxes, Flush-Device Boxes and Covers

UL 525 Flame Arresters for Use on Vents of Storage Tanks for Petroleum Oil and Gasoline

UL 541 Refrigerated Vending Machines

UL 542 Lampholders, Starters, and Starter Holders for Fluorescent Lamps

UL 544 Electric Medical and Dental Equipment

UL 551 Transformer-Type Arc-Welding Machines

UL 558 Industrial Trucks, Internal Combustion Engineer-Powered

UL 561 Floor-Finishing Machines

UL 563 Ice Makers

UL 567 Pipe Connectors for Flammable and Combustible Liquids and LP Gas

UL 574 Electric Oil Heaters

UL 583 Electric-Battery-Powered Industrial Trucks

UL 588 Christmas-Tree and Decorative-Lighting Outfits

UL 603 Power Supplies for Use with Burglar-Alarm Systems

UL 606 Linings and Screens for Use with Burglar-Alarm Systems

UL 609 Local Burglar-Alarm Units and Systems

UL 621 Ice Cream Makers

UL 626 2½ Gallon Stored-Pressure, Water-Type Fire Extinguisher

UL 632 Electrically Actuated Transmitters

UL 634 Connectors and Switches for Use with Burglar-Alarm Systems

UL 635 Insulating Bushings

UL 639 Intrusion-Detection Units

UL 641 Low-Temperature Venting Systems, Type L

UL 644 Container Assemblies for LP-Gas

UL 651 Schedule 40 and 80 PVC Conduit

UL 651A Type EB and A Rigid PVC Conduit and HDPE Conduit

UL 664 Commercial Dry-Cleaning Machines (Type IV)

UL 668 Hose Valves For Fire Protection Service

UL 674** Electric Motors and Generators for Use in Hazardous Locations, Class I, Groups C and D, Class II, Groups E, F, and G

UL 676 Underwater Lighting Fixtures

UL 696 Electric Toys

UL 697 Toy Transformers

UL 698** Industrial Control Equipment for Use in Hazardous (Classified) Locations

UL 705 Power Ventilators

UL 710 Grease Extractors for Exhaust Ducts

UL 711 Rating and Fire Testing of Fire Extinguishers

UL 719 Nonmetallic Sheathes Cables

UL 726 Oil-Fired Boiler Assemblies

UL 727 Oil-Fired Central Furnaces

UL 729 Oil-Fired Floor Furnaces

UL 730 Oil-Fired Wall Furnaces

UL 731 Oil-Fired Unit Heaters

UL 732 Oil-Fired Water Heaters

UL 733 Oil-Fired Air Heaters and Direct-Fired Heaters

UL 745-1 Portable Electric Tools

UL 745-2-1 Particular Requirements of Drills

UL 745-2-2 Particular Requirements for Screwdrivers and Impact Wrenches

UL 745-2-3 Particular Requirements for Grinders, Polishers, and Disk-Type Sanders

UL 745-2-4 Particular Requirements for Sanders

UL 745-2-5 Particular Requirements for Circular Saws and Circular Knives

UL 745-2-6 Particular Requirements for Hammers

UL 745-2-8 Particular Requirements for Shears and Nibblers

UL 745-2-9 Particular Requirements for Tappers

UL 745-2-11 Particular Requirements for Reciprocating Saws

UL 745-2-12 Particular Requirements for Concrete Vibrators

UL 745-2-14 Particular Requirements for Planers

UL 745-2-17 Particular Requirements for Routers and Trimmers

UL 745-2-30 Particular Requirements for Staplers

UL 745-2-31 Particular Requirements for Diamond Core Drills

UL 745-2-32 Particular Requirements for Magnetic Drill Presses

UL 745-2-33 Particular Requirements for Portable Bandsaws

UL 745-2-34 Particular Requirements for Strapping Tools

UL 745-2-35 Particular Requirements for Drain Cleaners

UL 745-2-36 Particular Requirements for Hand Motor Tools

UL 745-2-37 Particular Requirements for Plate Jointers

UL 746C Polymeric Materials—Use in Electrical Equipment Evaluations

UL 749 Household Electric Dishwashers

UL 751 Vending Machines

UL 756 Coin and Currency Changers and Actuators

UL 763 Motor-Operated Commercial Food Preparing Machines

UL 773 Plug-In, Locking Type Photocontrols for Use with Area Lighting

UL 773A Nonindustrial Photoelectric Switches for Lighting Control

UL 775 Graphic Arts Equipment

UL 778 Motor-Operated Water Pumps

UL 781** Portable Electric Lighting Units for Use in Hazardous (Classified) Locations

UL 783** Electric Flashlights and Lanterns for Use in Hazardous (Classified) Locations1

UL 791 Residential Incinerators

UL 795 Commercial-Industrial Gas-Heating Equipment

UL 796 Electrical Printed-Wiring Boards

UL 797 Electrical Metallic Tubing

UL 810 Capacitors

UL 813 Commercial Audio Equipment

UL 814 Gas-Tube-Sign and Ignition Cable

UL 817 Cord Sets and Power-Supply Cords

UL 823** Electric Heaters for Use in Hazardous (Classified) Locations

UL 826 Household Electric Clocks

UL 827 Central-Stations for Watchman, Fire-Alarm, and Supervisory Services

UL 834 Heating, Water Supply, and Power Boilers—Electric

UL 842 Valves for Flammable Liquids

UL 844** Electric Lighting Fixtures for Use in Hazardous (Classified) Locations

UL 845 Motor Control Centers

UL 854 Service-Entrance Cables

UL 857 Electric Busways and Associated Fittings

UL 858 Household Electric Ranges

UL 858A Safety-Related Solid-State Controls for Household Electric Ranges

UL 859 Personal Grooming Appliances

UL 863 Time-Indicating and—Recording Appliances

UL 864 Control Units for Fire-Protective Signaling Systems

UL 867 Electrostatic Air Cleaners

UL 870 Wireways, Auxiliary Gutters, and Associated Fittings

UL 873 Electrical Temperature-Indicating and Regulating Equipment

UL 875 Electric Dry Bath Heaters

UL 877** Circuit Breakers and Circuit-Breaker Enclosures for Use in Hazardous (Classified) Locations

UL 879 Electrode Receptacles for Gas-Tube Signs

UL 884 Underfloor Raceways and Fittings

UL 886** Electrical Outlet Boxes and Fittings for Use in Hazardous (Classified) Locations

UL 891 Dead-Front Electrical Switchboards

UL 894** Switches for Use in Hazardous (Classified) Locations

UL 900 Test Performance of Air-Filter Units

UL 910 Test Method for Fire and Smoke Characteristics of Electrical and Optical-Fiber Cables Used in Air Handling Spaces

UL 913 Intrinsically Safe Apparatus and Associated Apparatus for Use in Class I, II, and III, Division 1, Hazardous Locations

UL 916 Energy Management Equipment

UL 917 Clock-Operated Switches

UL 921 Commercial Electric Dishwashers

UL 923 Microwave Cooking Appliances

UL 924 Emergency Lighting and Power Equipment

UL 935 Fluorescent-Lamp Ballasts

UL 943 Ground-Fault Circuit Interrupters

UL 961 Hobby and Sports Equipment

UL 964 Electrically Heated Bedding

UL 969 Marking and Labeling Systems

UL 977 Fuse Power-Circuit Devices

UL 982 Motor-Operated Household Food Preparing Machines

UL 983 Surveillance Camera Units

UL 984 Hermetic Refrigerant Motor-Compressors

UL 987 Stationary and Fixed Electric Tools

UL 991 Safety-Related Controls Employing Solid-State Devices

UL 998 Humidifiers

UL 1002** Electrically Operated Valves for Use in Hazardous Locations, Class I, Groups A, B, C, and D, and Class II, Groups E, F, and G

UL 1004 Electric Motors

UL 1005 Electric Flatirons

UL 1008 Automatic Transfer Switches

UL 1012 Power Supplies

UL 1017 Electric Vacuum Cleaner Machines and Blower Cleaners

UL 1018 Electric Aquarium Equipment

UL 1020 Thermal Cutoffs for Use in Electrical Appliances and Components

UL 1022 Line Isolated Monitors

UL 1023 Household Burglar-Alarm System Units

UL 1026 Household Electric Cooking and Food-Serving Appliances

UL 1028 Electric Hair-Clipping and -Shaving Appliances

UL 1029 High-Intensity Discharge Lamp Ballasts

UL 1030 Sheathed Heating Elements

UL 1037 Antitheft Alarms and Devices

UL 1042 Electric Baseboard Heating Equipment

UL 1047 Isolated Power Systems Equipment

UL 1054 Special-Use Switches

UL 1059 Electrical Terminal Blocks

UL 1063 Machine-Tool Wires and Cables

UL 1066 Low-Voltage AC and DC Power Circuit Breakers Used in Enclosures

UL 1069 Hospital Signaling and Nurse-Call System

UL 1072 Medium Voltage Cables

UL 1075 Gas Fired Cooling Appliances for Recreational Vehicles

UL 1076 Proprietary Burglar Alarm Units and Systems

UL 1077 Supplementary Protectors for Use in Electrical Equipment

UL 1081 Electric Swimming Pool Pumps, Filters, and Chlorinators

UL 1082 Household Electric Coffee Makers and Brewing-Type Appliances

UL 1083 Household Electric Skillets and Frying-Type Appliances

UL 1086 Household Trash Compactors

UL 1090 Electric Snow Movers

UL 1097 Double Insulation Systems for Use in Electrical Equipment

UL 1203** Explosion-Proof and Dust-Ignition-Proof Electrical Equipment for Use in Hazardous (Classified) Locations

UL 1206 Electrical Commercial Clothes-Washing Equipment

UL 1207** Sewage Pumps for Use in Hazardous (Classified) Locations

UL 1230 Amateur Movie Lights

UL 1236 Electric Battery Chargers

UL 1238 Control Equipment for Use with Flammable Liquid Dispensing Devices

UL 1240 Electric Commercial Clothes-Drying Equipment

UL 1244 Electrical and Electronic Measuring and Testing Equipment

UL 1247 Diesel Engines for Driving Centrifugal Fire Pumps

UL 1248 Engine-Generator Assemblies for Use in Recreational Vehicles

UL 1261 Electric Water Heaters for Pools and Tubs

UL 1262 Laboratory Equipment

UL 1270 Radio Receivers, Audio Systems, and Accessories

UL 1277 Electrical Power and Control Tray Cables with Optional Optical-Fiber Members

UL 1278 Movable and Wall- or Ceiling-Hung Electric Room Heaters

UL 1283 Electromagnetic-Interference Filter

UL 1286 Office furnishings

UL 1310 Direct Plug-In Transformer Units

UL 1313 Nonmetallic Safety Cans for Petroleum Products

UL 1316 Glass-Fiber-Reinforced Plastic Underground Storage Tanks for Petroleum Products

UL 1323 Scaffold Hoists

UL 1363 Relocatable Power Taps

UL 1409 Low-Voltage Video Products Without Cathode-Ray-Tube Displays

UL 1410 Television Receivers and High-Voltage Video Products

UL 1411 Transformers and Motor Transformers for Use in Audio-, Radio-, and Television-Type Appliances

UL 1413 High-Voltage Components for Television-Type Appliances

UL 1414 Across-the-Line, Antenna-Coupling, and Line-By-Pass Capacitors for Radio- and Television-Type Appliances

UL 1416 Overcurrent and Overtemperature Protectors for Radio- and Television-Type Appliances

UL 1417 Special Fuses for Radio- and Television-Type Appliances

UL 1418 Implosion-Protected Cathode-Ray Tubes for Television-Type Appliances

UL 1419 Professional Video and Audio Equipment

UL 1424 Cables for Power-Limited Fire-Protective-Signaling Circuits

UL 1431 Personal Hygiene and Health Care Appliances

UL 1433 Control Centers for Changing Message Type Electric Signs

UL 1436 Outlet Circuit Testers and Similar Indicating Devices

UL 1437 Electrical Analog Instruments—Panel Board Types

UL 1445 Electric Water Bed Heaters

UL 1446 Systems of Insulating Materials—General

UL 1447 Electric Lawn Mowers

UL 1448 Electric Hedge Trimmers

UL 1449 Transient Voltage Surge Suppressors

UL 1450 Motor-Operated Air Compressors, Vacuum Pumps and Painting Equipment

UL 1453 Electric Booster and Commercial Storage Tank Water Heaters

UL 1459 Telephone Equipment

UL 1472 Solid-State Dimming Controls

UL 1480 Speakers for Fire Protective Signaling Systems

UL 1481 Power Supplies for Fire Protective Signaling Systems

UL 1482 Solid Fuel Room Type Heaters

UL 1484 Residential Gas Detectors

UL 1492 Audio-Video Products and Accessories

UL 1557 Electrically Isolated Semiconductor Devices

UL 1558 Metal-Enclosed Low-Voltage Power Circuit Breaker Switchgear

UL 1559 Insect-Control Equipment, Electrocution Type

UL 1561 Large General Purpose Transformers

UL 1562 Transformers, Distribution, Dry-Type—Over 600 Volts

UL 1563 Electric Hot Tubs, Spas, and Associated Equipment

UL 1564 Industrial Battery Chargers

UL 1565 Wire Positioning Devices

UL 1567 Receptacles and Switches for Use With Aluminum Wire

UL 1569 Metal-Clad Cables

UL 1570 Fluorescent Lighting Fixtures

UL 1571 Incandescent Lighting Fixtures

UL 1572 High Intensity Discharge Lighting Fixtures

UL 1573 Stage and Studio Lighting Units

UL 1574 Track Lighting Systems

UL 1577 Optical Isolaters

UL 1581 Reference Standard for Electrical Wires, Cables, and Flexible Cords

UL 1585 Class 2 and Class 3 Transformers

UL 1594 Sewing and Cutting Machines

UL 1604** Electrical Equipment for Use in Class I and II, Division 2, and Class III Hazardous (Classified) Locations

UL 1610 Central-Station Burglar-Alarm Units

UL 1635 Digital Alarm Communicator System Units

UL 1638 Visual Signaling Appliances

UL 1640 Portable Power Distribution Units

UL 1647 Motor-Operated Massage and Exercise Machines

UL 1651 Optical Fiber Cable

UL 1660 Liquid-Tight Flexible Nonmetallic Conduit

UL 1662 Electric Chain Saws

UL 1664 Immersion-Detection Circuit-Interrupters

UL 1666 Standard Test for Flame Propagation Height of Electrical and Optical Fiber Cables Installed Vertically in Shafts

UL 1673 Electric Space Heating Cables

UL 1676 Discharge Path Resistors

UL 1690 Data-Processing Cables

UL 1693 Electric Radiant Heating Panels and Heating Panel Sets

UL 1694 Tests for Flammability of Small Polymeric Component Materials

UL 1703 Flat Plate Photovoltaic Modules and Panels

UL 1711 Amplifiers for Fire Protective Signaling Systems

UL 1727 Commercial Electric Personal Grooming Appliances

UL 1738 Venting Systems for Gas-Burning Appliances, Categories II, III, and IV

UL 1740 Industrial Robots and Robotic Equipment

UL 1773 Termination Boxes

UL 1776 High-Pressure Cleaning Machines

UL 1778 Uninterruptible Power Supply Equipment

UL 1786 Nightlights

UL 1795 Hydromassage Bathtubs

UL 1812 Ducted Heat Recovery Ventilators

UL 1815 Nonducted Heat Recovery Ventilators

UL 1821 Thermoplastic Sprinkler Pipe and Fittings for Fire Protection Service

UL 1838 Low Voltage Landscape Lighting Systems

UL 1863 Communication Circuit Accessories

UL 1876 Isolating Signal and Feedback Transformers for Use in Electronic Equipment

UL 1889 Commercial Filters for Cooking Oil

UL 1917 Solid-State Fan Speed Controls

UL 1950 Information Technology Equipment Including Electrical Business Equipment

UL 1951 Electric Plumbing Accessories

UL 1963 Refrigerant Recovery/Recycling Equipment

UL 1971 Signaling Devices for the Hearing Impaired

UL 1977 Component Connectors for Use in Data, Signal, Control and Power Applications

UL 1981 Central Station Automation Systems

UL 1993 Self-Ballasted Lamps and Lamp Adapters

UL 1994 Low-Level Path Marking and Lighting Systems

UL 1995 Heating and Cooling Equipment

UL 1996 Duct Heaters

UL 2021 Fixed and Location-Dedicated Electric Room Heaters

UL 2024 Optical Fiber Cable Raceway

UL 2034 Single and Multiple Station Carbon Monoxide Detectors

UL 2044 Commercial Closed Circuit Television Equipment

UL 2083 Halon 1301 Recovery/Recycling Equipment

UL 2096 Commercial/Industrial Gas and/or Gas Fired Heating Assemblies with Emission Reduction Equipment

UL 2097 Double Insulation Systems for Use in Electronic Equipment

UL 2106 Field Erected Boiler Assemblies

UL 2157 Electric Clothes Washing Machines and Extractors

UL 2158 Electric Clothes Dryers

UL 2161 Neon Transformers and Power Supplies

UL 2250 Instrumentation Tray Cable

UL 2601-1 Medical Electrical Equipment, Part 1: General Requirements for Safety

UL 3044 Surveillance Closed Circuit Television Equipment

UL 3101-1 Electrical Equipment for Laboratory Use; Part 1: General

UL 3111-1 Electrical Measuring and Test Equipment, Part 1: General

FMRC 3600** Electrical Equipment for Use in Hazardous (Classified) Locations, General Requirements

FMRC 3610** Intrinsically Safe Apparatus and Associated Apparatus for Use in Class I, II and III, Division 1 Hazardous (Classified) Locations

FMRC 3611** Electrical Equipment for Use in Class I, Division 2; Class II, Division 2; and Class III, Division 1 and 2 Hazardous Locations

FMRC 3615 Explosionproof Electrical Equipment, General Requirements

UL 6500 Audio/Visual and Musical Instrument Apparatus for Household, Commercial, and Similar General Use

UL 8730-1 Electrical Controls for Household and Similar Use; Part 1: General

UL 8730-2-3 Automatic Electrical Controls for Household and Similar Use; Part 2: Particular Requirements for Thermal Motor Protectors for Ballasts for Tubular Fluorescent Lamps

UL 8730-2-4 Automatic Electrical Controls for Household and Similar Use; Part 2: Particular Requirements for Thermal Motor Protectors for Motor Compressors or Hermetic and Semi-Hermetic Type

UL 8730-2-7 Automatic Electrical Controls for Household and Similar Use; Part 2: Particular Requirements for Timers and Time Switches

UL 8730-2-8 Automatic Electrical Controls for Household and Similar Use; Part 2: Particular Requirements for Electrically Operated Water Valves

*These standards are approved for equipment or materials intended for use in commercial and industrial power system applications. These standards are not approved for equipment or materials intended for use in installations that are excluded from the provisions of Subpart S in 29 CFR 1910, in particular Section 1910.302(b)(2).

**Testing and certification of products under this test standard is limited to the use of these products in Class I locations. See also “Other limitations” below.

Note: Testing and certification of gas operated equipment is limited to equipment for use with “liquefied petroleum gas” (“LPG” or “LP-Gas”).

The designations and titles of the above test standards were current at the time of the preparation of the notice of the preliminary finding.

Many of the test standards listed above are approved as American National Standards by the American National Standards Institute (ANSI). However, for convenience in compiling the list, we show the designation of the standards developing organization (e.g., UL 1950) for the standard, as opposed to the ANSI designation (e.g., ANSI/UL 1950). Under our procedures, an NRTL recognized for an ANSI-approved test standard may use either the latest proprietary version of the test standard or the latest ANSI version of that standard, regardless of whether it is currently recognized for the proprietary or ANSI version. Contact ANSI or the ANSI web site to find out whether or not a standard is currently ANSI-approved.

Other Limitations

ITSNA may perform safety testing for hazardous location products only at the specific ITSNA sites that OSHA has recognized and that have been pre-qualified by the ITSNA Chief Engineer. In addition, all safety test reports for hazardous location products must undergo a documented review and approval at the Cortland testing facility by a test engineer qualified in hazardous location safety testing prior to ITSNA's initial or continued authorization of the certifications covered by these reports. The above limitations apply solely to ITSNA's operations as an NRTL.

Conditions

ITSNA must also abide by the following conditions of the recognition, in addition to those already required by 29 CFR 1910.7:

ITSNA may not test and certify any products for a manufacturer or vendor that is either owned in excess of 2% by ITSLtd, or affiliated organizationally with ITSNA, including Compliance Design;

OSHA must be allowed access to ITSNA's facility and records for purposes of ascertaining continuing compliance with the terms of its recognition and to investigate as OSHA deems necessary;

If ITSNA has reason to doubt the efficacy of any test standard it is using under this program, it must promptly inform the test standard developing organization of this fact and provide that organization with appropriate relevant information upon which its concerns are based;

ITSNA must not engage in or permit others to engage in any misrepresentation of the scope or conditions of its recognition. As part of this condition, ITSNA agrees that it will allow no representation that it is either a recognized or an accredited Nationally Recognized Testing Laboratory (NRTL) without clearly indicating the specific equipment or material to which this recognition is tied, or that its recognition is limited to certain products;

ITSNA must inform OSHA as soon as possible, in writing, of any change of ownership, facilities, or key personnel, and of any major changes in its operations as an NRTL, including details;

ITSNA will meet all the terms of its recognition and will always comply with all OSHA policies pertaining to this recognition; and

ITSNA will continue to meet the requirements for recognition in all areas where it has been recognized.

Signed at Washington, DC this 22nd day of May, 2001.
R. Davis Layne,
Acting Assistant Secretary.

[FR Doc. 01-13427 Filed 5-25-01; 8:45 am]

BILLING CODE 4510-26-P